DEPARTMENT OF ENERGY

10 CFR Parts 429 and 430

[Docket No. EERE-2012-BT-TP-0017]

Test Procedure Guidance for Room Air Conditioners, Residential Dishwashers, and Residential Clothes Washers: Public Meeting

AGENCY: Office of Energy Efficiency and Renewable Energy, Department of Energy.

ACTION: Notice of public meeting.

SUMMARY: The U.S. Department of Energy (DOE) is holding a public meeting to provide a forum for manufacturers and test laboratories to discuss their respective interpretations of existing DOE test procedures, where they believe that the test procedures lack clarity, and to provide information for DOE to consider prior to publishing any proposed guidance to clarify the current test procedures for room air conditioners, residential dishwashers, and residential clothes washers.

DATES: DOE will hold a public meeting on June 1, 2012, beginning at 9:00 a.m. in Washington, DC.

ADDRESSES: The public meeting will be held at the U.S. Department of Energy, Forrestal Building, Room 8E-089, 1000 Independence Avenue SW., Washington, DC 20585-0121. To attend, please notify Ms. Brenda Edwards at (202) 586-2945. Please note that foreign nationals visiting DOE Headquarters are subject to advance security screening procedures. Any foreign national wishing to participate in the public meeting should advise DOE as soon as possible by contacting Ms. Brenda Edwards at (202) 586-2945 to initiate the necessary procedures.

Additionally, DOE plans to conduct the public meeting via webinar. To participate via webinar, participants must sign up by following the instructions at https://www1.gotomeeting.com/register/350255376. Participants are responsible for ensuring that their systems are compatible with the webinar software.

Docket: The docket is available for review at www.regulations.gov. All documents in the docket are listed in the www.regulations.gov index. However, not all documents in the index may be publicly available, such as information that is exempt from public disclosure. A link to the docket web page can be found at www.regulations.gov. The www.regulations.gov web page contains a link to the docket for this notice, along with simple instructions on how to access all documents, including public comments, in the docket.

FOR FURTHER INFORMATION CONTACT: Ashley Armstrong, U.S. Department of Energy, Office of Energy Efficiency and Renewable Energy, Building Technologies, EE-2J, 1000 Independence Avenue SW., Washington, DC 20585-0121. Phone: (202) 586-6590. Email: Ashley.Armstrong@ee.doe.gov or Abigail Chingos, U.S. Department of Energy, Office of General Counsel, GC-32, 1000 Independence Avenue SW, Washington, DC 20585-0121. Phone: (202) 586-5060. Email: Abigail.Chingos@hq.doe.gov.

SUPPLEMENTARY INFORMATION: Title III, Part B of the Energy Policy and Conservation Act of 1975 (EPCA or the Act), Public Law 94-163 (42 U.S.C. 6291−6309, as codified), established the Energy Conservation Program for Consumer Products Other Than Automobiles, a program covering most major household appliances, including the residential room air conditioners, residential dishwashers, and residential clothes washers that are the focus of this notice.¹ (42 U.S.C. 6292(2), (6) and (8))

¹ For editorial reasons, upon codification in the U.S. Code, Part B was re-designated Part A.

Under EPCA, the program consists of four activities: (1) Testing; (2) labeling; (3) Federal energy conservation standards, and (4) certification, compliance, and enforcement. The testing requirements consist of test procedures that manufacturers of covered products must use as the basis for certifying to DOE that their products comply with applicable energy conservation standards adopted pursuant to EPCA and for representing the efficiency of those products. (42 U.S.C. 6293(c); 42 U.S.C. 6295(s)) Similarly, DOE must use these test procedures in any enforcement action to determine whether covered products comply with these energy conservation standards. (42 U.S.C. 6295(s))

DOE's existing test procedures for residential room air conditioners, residential dishwashers, and residential clothes washers adopted pursuant to these provisions appear under Title 10 of the Code of Federal Regulations (CFR) part 430, subpart B, appendices F (“Uniform Test Method for Measuring the Energy Consumption of Room Air Conditioners”), C (“Uniform Test Method for Measuring the Energy Consumption of Dishwashers”), and J1 (“Uniform Test Method for Measuring the Energy Consumption of Automatic and Semi-Automatic Clothes Washers”). DOE also recently published a new test procedure for residential clothes washers (Appendix J2—“Uniform Test Method for Measuring the Energy Consumption of Automatic and Semi-Automatic Clothes Washers”), the use of which is not required until compliance with any amended standards is required. These procedures establish the currently permitted means for determining energy efficiency and annual energy consumption of these products.

DOE has received inquiries regarding the appropriate interpretation of various provisions of the current DOE test procedures. DOE has issued guidance documents on certain aspects of testing room air conditioners, residential dishwashers, and residential clothes washers. See http://www1.eere.energy.gov/guidance/default.aspx?pid=2&spid=1 for additional information.

The Department is holding this public meeting and webinar to gather information regarding the current practices of manufacturer-run and private testing facilities. The Department seeks to understand how interested parties have interpreted test procedures provisions that they believe to be ambiguous absent DOE guidance. DOE plans to issue guidance, as needed and appropriate, to provide better consistency in the application of the test procedures and better clarity regarding how DOE conducts testing.

Discussion at the public meeting should focus on current test procedures (Appendices C, F, J1 and J2). Furthermore, while DOE seeks the views of all interested parties, this public meeting is not an appropriate forum for consensus building. The Department will take the information provided in the course of the public meeting into consideration when drafting DOE interpretive guidance.

In 2011, DOE launched a new Web site dedicated to DOE guidance: http://www1.eere.energy.gov/guidance/default.aspx?pid=2&spid=1. All test procedure guidance is now published through a public process. DOE publishes guidance in draft form on the guidance Web site. DOE accepts public comment on the draft guidance. After considering comments, DOE may take one of three courses: Publishing final guidance, publishing revised draft guidance, or withdrawing the guidance. If the Department publishes revised draft guidance, interested parties have another opportunity to provide comments.

DOE will conduct the public meeting in an informal, conference style. There shall be no discussion of proprietary information, costs or prices, market shares, or other commercial matters regulated by U.S. antitrust laws. A court reporter will record the meeting, after which a transcript will be placed on the DOE Web site and made available for purchase from the court reporter.

Anyone who wishes to participate in the public meeting, receive meeting materials, or be added to the DOE mailing list to receive future notices and information about room air conditioners, residential dishwashers, or residential clothes washers should contact Ms. Brenda Edwards at (202) 586-2945.

Dated: Issued in Washington, DC, on May 9, 2012.
Kathleen B. Hogan,
Deputy Assistant Secretary, Energy Efficiency and Renewable Energy.

[FR Doc. 2012-11732 Filed 5-14-12; 8:45 am]

BILLING CODE 6450-01-P